DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register Notice with a 60-day comment period soliciting comments on the following collections of information was published on April 12, 2005, page 19144.

DATES: Comments must be submitted on or before September 2, 2005. A comment to OMB is most effective if OMB receives it within 30 days of publication.

FOR FURTHER INFORMATION CONTACT: Judy Street on (202) 267-9895.

SUPPLEMENTARY INFORMATION:

Federal Aviation Administration (FAA)

1. Title: Pilot schools—FAR 141.

Type of Request: Extension of a currently approved collection.

OMB Control Number: 2120-0009.

Forms(s): FAA Form 8420-8.

Affected Public: A total of 524 pilot schools.

Abstract: 49 U.S.C. 44707 authorizes certification of civilian schools giving instruction in flying. 14 CFR part 141 prescribes requirements for pilot schools certification. Information collected is used for certification and to determine compliance. The respondents are applicants who wish to be issued pilot school certificates and associated ratings.

Estimated Annual Burden Hours: An estimated 28,878 hours annually.

2. Title: Rotorcraft External Load Operator Certificate Application.

Type of Request: Extension of a currently approved collection.

OMB Control Number: 2120-0044.

Forms: FAA Form 8710-4.

Affected Public: A total of 4000 rotorcraft operators.

Abstract: 14 CFR part 133, Rotorcraft External-Load Operations, was adopted to establish certification rules governing non-passenger-carrying rotorcraft external-load operations conducted for compensation or hire. The applicants are individual airmen, state and local governments, and businesses.

Estimated Annual Burden Hours: An estimated 3,268 hours annually.

ADDRESSES: Send comments to the Office of Information and Regulatory Affairs, Office of Management and Budget, 725 17th Street, NW., Washington, DC 20503, Attention FAA Desk Officer.

Comments are invited on: whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on July 27, 2005.
Judith D. Street,
FAA Information Collection Clearance Officer, Information Systems and Technology Services Staff, ABA-20.

[FR Doc. 05-15312 Filed 8-2-05; 8:45 am]

BILLING CODE 4910-13-M